ENVIRONMENTAL PROTECTION AGENCY

[FRL-6920-3]

Velsicol/Hardeman County Landfill Superfund Site; Mathis Brothers/South Marble Top Road Landfill Superfund Site; Shaver's Farm Superfund Site

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement pursuant to section 122(h) of CERCLA with Velsicol Chemical Corporation for recovery of past and future response costs concerning three Superfund sites: the Velsicol/Hardeman County Landfill Superfund Site, Toone, Hardeman County, Tennessee; the Mathis Brothers/South Marble Top Road Landfill Superfund Site, Kensington, Walker County, Georgia; and the Shaver's Farm Superfund Site, Lafayette, Walker County, Georgia. The Agreement requires Velsicol Chemical Corporation to pay approximately $4 million dollars, plus interest, to resolve its outstanding and potential liabilities at the three Sites. The Agreement provides Velsicol Chemical Corporation with a monthly payment schedule which will allow it to pay all of the outstanding amounts over three years. For thirty (30) days following the date of publication of this notice, the Agency will receive written comments relating to the settlement. The Agency will consider all comments received and may modify or withdraw its consent to the settlement if comments received disclose facts or considerations which indicate that the settlement is inappropriate, improper, or inadequate. Copies of the proposed settlement are available from: Ms. Paula V. Batchelor, U.S. Environmental Protection Agency, Region IV, Waste Management Division 61 Forsyth Street, SW., Atlanta, Georgia 30303, 404/562-8887.

Written comments may be submitted to Ms. Batchelor at the above address on or before January 22, 2001.

Dated: December 4, 2000.
Franklin E. Hill,
Chief, CERCLA Program Services Branch, Waste Management Division.

[FR Doc. 00-32559 Filed 12-20-00; 8:45 am]

BILLING CODE 6560-50-P